DEPARTMENT OF DEFENSE

Department of the Army, Corps of Engineers

National Wetland Plant List

AGENCY: Army Corps of Engineers, DoD.

ACTION: Notice.

SUMMARY: The U.S. Army Corps of Engineers (Corps), as part of an interagency effort with the U.S. Environmental Protection Agency (EPA), the U.S. Fish and Wildlife Service (FWS) and the U.S. Department of Agriculture Natural Resources Conservation Service (NRCS), is announcing the availability of the final 2018 National Wetland Plant List (NWPL). The NWPL provides plant species indicator status ratings, which are used in determining whether the hydrophytic vegetation factor is met when conducting wetland delineations under the Clean Water Act and wetland determinations under the Wetland Conservation Provisions of the Food Security Act. Other applications of the NWPL include wetland restoration, establishment, and enhancement projects. The list will become effective on May 18, 2020 and will be used in any wetland delineations performed after this date. Delineations completed prior to this date may still use the 2016 NWPL. Completed wetland delineation/determination forms should reference the version of the NWPL used to complete the form.

DATES: The 2018 NWPL will become effective on May 18, 2020.

ADDRESSES: U.S. Army Corps of Engineers, Attn: CECW-CO-R, 441 G Street NW, Washington, DC 20314-1000.

FOR FURTHER INFORMATION CONTACT: Brianne McGuffie, Headquarters, U.S. Army Corps of Engineers, Operations and Regulatory Community of Practice, Washington, DC 20314-1000, by phone at 202-761-4750 or by email at brianne.e.mcguffie@usace.army.mil.

SUPPLEMENTARY INFORMATION:

Background

The U.S. Army Corps of Engineers (Corps) administers the National Wetland Plant List (NWPL) for the United States (U.S.) and its territories. Responsibility for the NWPL was transferred to the Corps from the U.S. Fish and Wildlife Service (FWS) in 2006. The NWPL has undergone several revisions since its inception in 1988. Additions or deletions to the NWPL represent new records, range extensions, nomenclatural and taxonomic changes, and newly proposed species. The latest review process began in 2018 and included review by Regional Panels (RPs), the National Panel (NP), and the public, who provided input on changes to the wetland indicator status of 20 species and 37 individual ratings. The proposed indicator changes were announced in a Federal Register Notice, 84 FR 26824, June 10, 2019, with the comment period ending on August 9, 2019. Two comments were received during that time.

Wetland Indicator Status Ratings

On the NWPL, there are five categories of wetland indicator status ratings, used to indicate a plant's likelihood for occurrence in wetlands versus non-wetlands: Obligate Wetland (OBL), Facultative Wetland (FACW), Facultative (FAC), Facultative Upland (FACU), and Upland (UPL). These rating categories are defined by the NP as follows: OBL—almost always occur in wetlands; FACW — usually occur in wetlands, but may occur in non-wetlands; FAC—occur in wetlands and non-wetlands; FACU—usually occur in non-wetlands, but may occur in wetlands; UPL—almost always occur in non-wetlands. These category definitions are qualitative descriptions that better reflect the qualitative supporting information, rather than numeric frequency ranges. The percentage frequency categories used in the older definitions are only used for testing problematic or contested species being recommended for indicator status changes. Plus and minus designations and wetland indicator designations such as No Indicator (NI), No Occurrence (NO), and No Agreement (NA) were removed in 2012 and are no longer used on the NWPL. More information on the specifics of how to use these ratings is available on the NWPL website at http://wetland-plants.usace.army.mil/.

The NWPL is utilized in conducting wetland determinations under the authority of the Food Security Act of 1985 (16 U.S.C. 3801 et seq.) and wetland delineations under the authority of Section 404 of the Clean Water Act (33 U.S.C. 1344) and Section 10 of the Rivers and Harbors Act of 1899 (33 U.S.C. 401 et seq.). For the purposes of determining how often a species occurs in wetlands, wetlands are defined as either (1) those areas that are inundated or saturated by surface or ground water at a frequency and duration sufficient to support, and under normal circumstances do support, a prevalence of vegetation typically adapted for life in saturated soil conditions (33 CFR 328.3) or (2) “except when such term is part of the term `converted wetland,' means land that has a predominance of hydric soils; is inundated or saturated by surface or groundwater at a frequency and duration sufficient to support a prevalence of hydrophytic vegetation typically adapted for life in saturated soil conditions; and under normal circumstances does support a prevalence of such vegetation.” (16 U.S.C. 3801(a)(27) and 7 CFR 12.2). Wetlands are identified using the three-factor approach. Because each species being evaluated occurs as part of a vegetation assemblage, examining the other species present in relation to their assigned wetland fidelity may be useful in assessing hydrophytic vegetation.

Discussion of Public Comments

For the 2018 NWPL update, the NWPL NP and RPs reviewed proposed wetland rating changes or additions for 20 species and 37 regional ratings (some species were reviewed for multiple regions) submitted by the general public. Eight of these species were proposed for addition to the NWPL, and 12 species were submitted for a rating change request in one or more regions. Submitted information was reviewed by the NP and RPs, and proposed 2018 ratings for these species were determined. Along with soliciting information on the species being evaluated, we also solicited comments on the overall NWPL process. This information was detailed in the Federal Register Notice, 84 FR 26824, June 10, 2019 and is provided in the table below.

In response to the initial Federal Register notice, two comments were received, each relating to a particular species: One recommending Epilobium brachycarpum to be FACU in the Arid West and one recommending Hymenocallis occidentalis to be “OBL, or FACW at a minimum” in the Atlantic and Gulf Coastal Plain and Great Plains. These recommendations were reviewed by the NWPL Regional Panels and National Panel, along with literature, specimen collection data, and professional experience and final ratings determined: FAC for Epilobium brachycarpum (as originally proposed) and FACW for Hymenocallis occidentalis (FACW in the Great Plains and OBL in the Atlantic and Gulf Coastal Plain on the 2016 NWPL). Received comments, responses to those comments, and final ratings are detailed in the decision document. Three species were removed from this update. Bassia hyssopifolia and Pycnanthemum muticum were removed because in both cases, the requested indicator for the requested region, FACU in the Arid West and FAC in the Eastern Mountains and Piedmont, respectively, was already the existing indicator on the 2016 NWPL. Pleopeltis polypodioides is an epiphyte and upon additional review of its epiphytic nature and the position of epiphytes on the NWPL (Lichvar and Fertig 2011), it was determined that it should be removed from the NWPL.

Species Reviewed for NWPL 2018 Update
Species | Region | 2016 NWPL rating | Proposed 2018 NWPL rating | Final 2018 NWPL rating
Aristida palustris | AGCP | NOL * | FACW | FACW.
Artemisia dracunculus | AW | NOL | FACU | FACU.
Artemisia dracunculus | WMVC | NOL | FACU | FACU.
Bromus nottowayanus | MW | NOL | FACU | FACU.
Bromus nottowayanus | NCNE | NOL | FACU | FACU.
Delairea odorata | AW | NOL | FAC | FAC.
Delairea odorata | WMVC | NOL | FAC | FAC.
Dichanthelium wrightianum | AGCP | NOL | FACW | FACW.
Epilobium brachycarpum | AW | NOL | FAC | FAC.
Epilobium brachycarpum | WMVC | NOL | FAC | FAC.
Hymenocallis latifolia | AGCP | FACW | FACU | FACU.
Hymenocallis latifolia | CB | FACW | FACU | FACU.
Hymenocallis occidentalis | AGCP | OBL | FAC | FACW.
Hymenocallis occidentalis | EMP | OBL | FAC | FAC.
Hymenocallis occidentalis | GP | FACW | FAC | FACW.
Hymenocallis occidentalis | MW | OBL | FAC | FAC.
Ilex opaca | AGCP | FAC | FAC | FAC.
Iva axillaris | AW | FAC | FACU | FACU.
Iva axillaris | WMVC | FAC | FACU | FACU.
Liriodendron tulipifera | AGCP | FACU | FACU | FACU.
Liriodendron tulipifera | EMP | FACU | FACU | FACU.
Penstemon rydbergii | AW | FACU | FACU | FACU.
Penstemon rydbergii | WMVC | FACU | FACU | FACU.
Polymnia canadensis | EMP | NOL | FACU | FACU.
Polymnia canadensis | MW | NOL | FACU | FACU.
Polymnia canadensis | NCNE | NOL | FACU | FACU.
Quercus michauxii | AGCP | FACW | FACW | FACW.
Tussilago farfara | NCNE | FACU | FACU | FACU.
Verbena brasiliensis | AGCP | NOL | FACU | FACU.
Verbena brasiliensis | EMP | NOL | FACU | FACU.
Verbena brasiliensis | MW | NOL | FACU | FACU.
Verbena incompta | AGCP | FACW | FACU | FACU.
Verbena incompta | EMP | FACW | FACU | FACU.
Verbena incompta | MW | FAC | FACU | FACU.
* NOL = “Not On List” and indicates proposed additions.

The Corps believes we have adequately reviewed the comments and allowed for public and agency input for the proposal. Future updates to the NWPL will occur biennially. The public may provide input on future NWPL updates by utilizing the following procedures. A change in indicator status may be requested at any time at http://wetland-plants.usace.army.mil/ by clicking on the “Submit a NWPL Change Request” link and submitting the appropriate data. Data includes ecological data, literature reviews, frequency and abundance data, testing descriptions, and geographic data for the taxon in wetlands and non-wetlands in the Corps wetland region or subregion for which the change is proposed.

In accordance with the Memorandum of Agreement signed in 2006 (2006 MOA),¹ the Corps, endorsed by the EPA, FWS and NRCS, is publishing final wetland indicator statuses for the 2018 NWPL. The final NWPL is available at http://wetland-plants.usace.army.mil/. State, regional, and national lists can also be downloaded from this site. This completes the review of the NWPL. All comments received have been evaluated and final indicator statuses have been set.

¹ U.S. Army Corps of Engineers, the U.S. Environmental Protection Agency, the U.S. Fish & Wildlife Service and the Natural Resources Conservation Service. (December 12, 2006). Memorandum of Agreement Among the U.S. Army Corps of Engineers, the U.S. Environmental Protection Agency, the U.S. Fish & Wildlife Service and the Natural Resources Conservation Service for the Purpose of Transferring Responsibility for Updating and Maintaining the National List of Vascular Plant Species that Occur in Wetlands.

Detailed information on the update process, protocol, and technical issues can be found in the following documents (available on the NWPL Publications web page):

• Lichvar, Robert W. and Minkin, Paul. Concepts and Procedures for Updating the National Wetland Plant List. Sept 2008. ERDC/CRREL TN-08-3. Hanover, NH: U.S. Army Engineer Research and Development Center, Cold Regions Research and Engineering Laboratory.

• Lichvar, Robert W. and Gillrich, Jennifer J. Final Protocol for Assigning Wetland Indicator Status Ratings during National Wetland Plant List Update. Sept 2011. ERDC/CRREL TN-11-1. Hanover, NH: U.S. Army Engineer Research and Development Center, Cold Regions Research and Engineering Laboratory.

Additional cited literature:

Lichvar R.W., N.C. Melvin, M.L. Butterwick, and W.N. Kirchner. 2012. National Wetland Plant List Indicator Rating Definitions. ERDC/CRREL TN-12-1. Hanover, NH: U.S. Army Engineer Research and Development Center Cold Regions Research and Engineering Laboratory

Lichvar R. and W. Fertig. Epiphytes and the National Wetland Plant List. Phytoneuron 2011-17:1-31

Environmental Documentation

A decision document has been prepared for this action after all comments received were evaluated. The decision document is available through Headquarters, U.S. Army Corps of Engineers, Operations and Regulatory Community of Practice, 441 G Street NW, Washington, DC 20314-1000.

Authority

The NWPL is utilized in conducting wetland determinations under the authority of the Food Security Act of 1985 (16 U.S.C. 3801 et seq.) and wetland delineations under the authority of Section 404 of the Clean Water Act (33 U.S.C. 1344) and Section 10 of the Rivers and Harbors Act of 1899 (33 U.S.C. 401 et seq.). The Corps has responsibility for issuing this update pursuant to the 2006 MOA.

R.D. James,
Assistant Secretary of the Army (Civil Works).

[FR Doc. 2020-10630 Filed 5-15-20; 8:45 am]

BILLING CODE 3720-58-P